DEPARTMENT OF HEALTH AND HUMAN SERVICES

Administration for Children and Families

Public Comment on the Proposed Adoption of ANA Program Policies and Procedures; Correction

AGENCY: Administration for Native Americans (ANA)

ACTION: Notice.

SUMMARY: Pursuant to section 814 of the Native American Programs Act of 1974 (the Act) 42 U.S.C. 2992b-1, ANA herein describes its proposed interpretive rules, statements of general policy and rules of agency procedure or practice in relation to the Social and Economic Development Strategies (hereinafter referred to as SEDS), Native Language Preservation and Maintenance (hereinafter referred to as Native Language), Environmental Regulatory Enhancement (hereinafter referred to as Environmental), Environmental Mitigation (hereinafter referred to as Mitigation), Improving the Well-Being of Children—Native American Healthy Marriage Initiative (hereinafter referred to as Healthy Marriage) programs and any Special Initiatives. Under the statute, ANA is required to provide members of the public an opportunity to comment on proposed changes in interpretive rules, statements of general policy and rules of agency procedure or practice and to give notice of the final adoption of such changes at least thirty (30) days before the changes become effective. This Notice also provides additional information about ANA's plan for administering the programs.

On July 18, 2005, ANA published a Notice of Public Comment (NOPC) in the Federal Register (Vol. 70, No. 136) announcing an administrative policy change on the number of awards an eligible applicant could receive under the SEDS program, Catalog of Federal Domestic Assistance number 93.612. This change only affected the Healthy Marriage program. On November 21, 2006, ANA published the annual NOPC in the Federal Register (Vol. 71, No. 224), which did not include a necessary correction to the revised administrative policy published on July 18, 2005. On December 22, 2006, ANA published a third Federal Register notice (Vol. 71, No. 246) to clarify the revised administrative policy published on July 18, 2005, on the number of awards an eligible applicant could receive under the SEDS program, Catalog of Federal Domestic Assistance number 93.612. ANA received three responses to the December 22, 2006, NOPC clarification. After review and consideration of the comments received, ANA determined that the administrative policy originally published on July 18, 2005, required clarification and revision. This Notice clarifies the agency's intent and provides a definitive statement on the number of awards an eligible applicant can receive under the Catalog of Federal Domestic Assistance number 93.612.

FOR FURTHER INFORMATION CONTACT: Sheila K. Cooper, Director of Program Operations, toll-free at (877) 922-9262.

Additional Information: The following statement corrects previous notices:

VI. ANA Administrative Policy Change

In the July 18, 2005, Federal Register (Vol. 70, No. 136), ANA made an administrative policy change that eligible applicants applying for funding under ANA's healthy marriage special initiative under Catalog of Federal Domestic Assistance number 93.612, would not be held to the long-standing ANA policy: “An applicant can have only one active Social and Economic Development Strategies (SEDS) grant operating at any given time.”

On December 22, 2006, ANA published notice that ANA was clarifying its policy pertaining to funding under the SEDS program. The Federal Register notice (Vol. 71, No. 246) stated that ANA was “reinforcing the policy that applicants may submit only one application for SEDS or one application for NAHMI but not for both.” Three public comments were received in response to the notice. All of the comments stated that Native communities experience tremendous needs and Tribes and Native Organizations plan and target their requests for financial assistance, and requested that ANA allow multiple awards under Catalog of Federal Domestic Assistance number 93.612. After review and further consideration of the comments, an analysis of the annual requests for funding, which far exceed the funding amount available, and review of the award distribution among applicants for ANA funding, it is necessary that ANA issue this Notice applying to the Healthy Marriage program ANA's long-standing policy that applicants may only receive one award at any one time under Catalog of Federal Domestic Assistance number 93.612. Therefore, applicants may submit only one application for project funding under the SEDS program or one application for project funding under NAHMI, but not for both.

Dated: February 26, 2007.
Sheila Cooper,
Director of the Division of Program Operations, Administration for Native Americans.

[FR Doc. E7-5630 Filed 3-27-07; 8:45 am]

BILLING CODE 4184-01-P